DEPARTMENT OF ENERGY

Federal Energy Regulatory Commission

[Docket No. ER95-1007-018, et al.]

Logan Generating Company, L.P., et al.; Electric Rate and Corporate Filings

April 6, 2005.

The following filings have been made with the Commission. The filings are listed in ascending order within each docket classification.

1. Logan Generating Company, L.P., Madison Windpower, LLC, Plains End, LLC

[Docket Nos. ER95-1007-018, ER00-1742-002, ER01-2741-003]

Take notice that on March 31, 2005, Logan Generating Company, L.P. (Logan), Madison Windpower, LLC (Madison) and Plains End, LLC (Plains End) (collectively, Applicants) filed a consolidated triennial updated market analysis. Applicants also filed amended market-based rate tariffs that (1) update the issuing officer as a result of changes in the upstream ownership of Applicants; (2) incorporate the Commission's reporting requirement for changes in status set forth in Order No. 652, Reporting Requirements for Changes in Status for Public Utilities with Market-Based Rate Authority, 110 FERC 61,097 (2005); and (3) with respect to the tariffs of Madison and Plains End, incorporate the market behavior rules adopted by the Commission in Investigation of Terms and Conditions of Public Utility Market-Based Rate Authorizations, 105 FERC ¶ 61,218 (2003). Further, Madison has requested authorization to resell firm transmission rights and Madison and Plains End have requested termination of the codes of conduct on file as part of the market-based rate tariffs, because they are no longer affiliated with Pacific Gas and Electric Company.

Applicants state that copies of the filing were served on the parties on the official service lists in these proceedings.

Comment Date: 5 p.m. eastern time on April 21, 2005.

2. Snapping Shoals Electric Membership Corp.

[Docket No. ER01-1994-002]

Take notice that on March 31, 2005, Snapping Shoals Electric Membership Corp. (Snapping Shoals) submitted an amendment to its Triennial Updated Market Analysis originally filed on July 12, 2004, as corrected on July 13, 2004, in Docket No. ER01-1994-002. In addition, Snapping Shoals submitted revised tariff sheets incorporating the market behavior rules adopted by the Commission in Investigation of Terms and Conditions of Public Utility Market-Based Rate Authorizations, 105 FERC ¶ 61,218 (2003). Snapping Shoals' revised tariff sheets also incorporate the reporting requirements adopted by the Commission in Order No. 652, Reporting Requirements for Changes in Status for Public Utilities with Market-Based Rate Authority, 110 FERC ¶ 61,097 (2005) and include language indicating that Snapping Shoals will not make any sales to affiliates without prior Commission authorization pursuant to section 205 of the Federal Power Act.

Comment Date: 5 p.m. eastern time on April 21, 2005.

3. Great Lakes Hydro America, LLC

[Docket No. ER02-2397-003]

Take notice that on March 30, 2005, Great Lakes Hydro America, LLC (GLHA) submitted revised tariff sheets to incorporate the change in status reporting requirement adopted by the Commission in Order No. 652, Reporting Requirement for Changes in Status for Public Utilities with Market-Based Rate Authority, 110 FERC ¶ 61,097 (2005). GLHA requests an effective date of March 21, 2005.

GLHA states that copies of the filing have been served on the parties on the official service list for this proceeding.

Comment Date: 5 p.m. eastern time on April 20, 2005.

4. Devon Power LLC, Middletown Power LLC, Montville Power LLC, Norwalk Power LLC, NRG Power Marketing Inc.

[Docket No. ER04-23-012]

Take notice that on March 31, 2005, Devon Power LLC, Middletown Power LLC, Montville Power LLC, and Norwalk Power LLC (collectively NRG) submitted a refund report showing the refunds made to ISO New England as the result of the Commission's Order Approving Uncontested Settlement issued January 27, 2005, in ISO New England Inc., et al., 110 FERC ¶ 61,079 (2005).

Comment Date: 5 p.m. eastern time on April 21, 2005.

5. Southern California Edison Company

[Docket No. ER04-316-005]

Take notice that on March 31, 2005, Southern California Edison Company (SCE), on behalf of its affiliate, Mountainview Power Company, LLC, submitted a compliance filing pursuant to the Commission's order issued February 25, 2004, in Docket No. ER04-316-000, 106 FERC ¶ 61,813 (2004).

SCE states that copies of the filing were served on the parties on the official service list in this proceeding.

Comment Date: 5 p.m. eastern time on April 21, 2005.

6. Midwest Independent Transmission, System Operator, Inc., Ameren Services, Company, et al.

[Docket Nos. ER05-6-017, EL04-135-019, EL02-111-037, and EL03-212-033]

Take notice that on March 31, 2005, the Midwest Independent Transmission Operator, Inc. (Midwest ISO) and Midwest ISO Transmission Owners (collectively, Applicants) jointly submitted a compliance filing pursuant to the Commission's order issued November 18, 2004, in Docket No. ER05-6-000, et al., 109 FERC ¶ 61,168 (2004).

Applicants state that copies of the filing were served on parties on the official service lists in these proceedings.

Comment Date: 5 p.m. eastern time on April 21, 2005.

7. Virginia Electric and Power Company

[Docket No. ER05-197-002]

Take notice that on March 31, 2005, Virginia Electric and Power Company submitted a compliance filing, pursuant to the Commission's letter order issued March 4, 2005, in Docket Nos. ER05-197-000 and 001.

Virginia Electric and Power Company states that copies of the filing have been served on CPV Warren, LLC and the Virginia State Corporation Commission.

Comment Date: 5 p.m. eastern time on April 21, 2005.

8. Pinelawn Power LLC

[Docket No. ER05-305-003]

Take notice that on March 31, 2005, Pinelawn Power LLC submitted an amendment to its March 16, 2005, filing in Docket No. ER05-305-002 submitted in compliance with the Commission's order issued February 15, 2005, in Docket Nos. ER05-305-000 and 001, 110 FERC ¶ 61,160 (2005).

Comment Date: 5 p.m. eastern time on April 21, 2005.

9. Alabama Power Company

[Docket No. ER05-398-001]

Take notice that on March 30, 2005, Southern Company Services, Inc. (SCS), as agent for Alabama Power Company (Alabama Power) and Georgia Power Company (Georgia Power), submitted a response to the Commission's deficiency letter issued February 28, 2005, in Docket No. ER05-398-000. The response constitutes an amendment to SCS's December 30, 2004, filing of an executed transmission facilities agreement by and between Alabama Power and Georgia Power.

Comment Date: 5 p.m. eastern time on April 20, 2005.

10. Savannah Electric and Power Company

[Docket No. ER05-399-001]

Take notice that on March 30, 2005, Southern Company Services, Inc. (SCS), on behalf of Savannah Electric and Power Company (Savannah Electric) and Georgia Power Company (Georgia Power), submitted a response to the Commission's deficiency letter issued February 28, 2005, in Docket No. ER05-399-000. The response constitutes an amendment to SCS's December 30, 2004, filing of an executed transmission facilities agreement by and between Alabama Power and Georgia Power.

SCS states that a copy of the filing was served on the Georgia Public Service Commission.

Comment Date: 5 p.m. eastern time on April 20, 2005.

11. California Independent System Operator Corporation

[Docket No. ER05-405-001]

Take notice that on March 30, 2005, the California Independent System Operator Corporation (ISO) submitted a compliance filing pursuant to the Commission's order issued February 28, 2005, in Docket Nos. ER05-405-000 and ER05-407-000, 110 FERC ¶ 61,196 (2005).

The ISO states that this filing has been served on all parties on the official service list in this proceeding. In addition, the ISO states that the filing has been posted on the ISO home page.

Comment Date: 5 p.m. eastern time on April 20, 2005.

12. California Independent System Operator Corporation

[Docket No. ER05-407-001]

Take notice that on March 30, 2005, the California Independent System Operator Corporation (ISO) submitted a compliance filing pursuant to the Commission's order issued February 28, 2005, in Docket Nos. ER05-405-000 and ER05-407-000, 110 FERC ¶ 61,196 (2005).

The ISO states that this filing has been served on all parties on the official service list in this proceeding. In addition, the ISO states that the filing has been posted on the ISO home page.

Comment Date: 5 p.m. eastern time on April 20, 2005.

13. Southern Company Services, Inc.

[Docket No. ER05-413-002]

Take notice that on March 30, 2005, Southern Company Services, Inc., acting as agent for Alabama Power Company, Georgia Power Company, Gulf Power Company, Mississippi Power Company and Savannah Electric and Power Company (collectively, Southern Companies) submitted a compliance filing, under protest, pursuant to the Commission's order issued February 28, 2005, in Docket No. ER05-413-000, 110 FERC ¶ 61,191 (2005).

Southern Companies state that copies of the filing have been served on all parties on the official service list in this proceeding.

Comment Date: 5 p.m. eastern time on April 20, 2005.

14. Big Swamp Power Company LLC

[Docket No. ER05-454-001]

Take notice that on March 30, 2005, Bear Swamp Power Company LLC (BSPC) submitted a compliance filing, pursuant to the Commission's order issued March 3, 2005, in Docket No. ER05-454-000, 110 FERC ¶ 61,208 (2005).

BSPC states that copies of the filing have been served on all parties on the official service list in this proceeding.

Comment Date: 5 p.m. eastern time on April 20, 2005.

15. Bellows Falls Power Company, LLC

[Docket No. ER05-455-001]

Take notice that on March 30, 2005, Bellows Falls Power Company, LLC (BFPC) submitted a compliance filing, pursuant to the Commission's order issued March 3, 2005, in Docket No. ER05-455-000, 110 FERC ¶ 61,221 (2005).

BFPC states that copies of the filing have been served on all parties on the official service list in this proceeding.

Comment Date: 5 p.m. eastern time on April 20, 2005.

16. Eastern Desert Power LLC

[Docket No. ER05-534-001]

Take notice that on March 31, 2005, Eastern Desert Power LLC submitted a compliance filing pursuant to the Commission's letter order issued March 23, 2005 in Eastern Desert Power LLC, 110 FERC ¶ 61,311 (2005).

Comment Date: 5 p.m. eastern time on April 21, 2005.

17. PSI Energy, Inc., Northern Indiana Public Service Company

[Docket No. ER05-538-001]

Take notice that on March 31, 2005, PSI Energy, Inc. (PSI) and Northern Indiana Public Service Company (NIPSCO) submitted NIPSCO's First Revised Rate Schedule No. 10 and PSI's First Revised Rate Schedule No. 227, reflecting changes to an Amended and Restated Facilities Agreement originally filed on February 2, 2005, in Docket No. ER05-538-000.

PSI and NIPSCO state that copies of the filing were served on the Indiana Utility Regulatory Commission.

Comment Date: 5 p.m. eastern time on April 21, 2005.

18. American Electric Power Service Corporation

[Docket No. ER05-751-000]

Take notice that on March 31, 2005, American Electric Power Service Corporation (AEPSC), on behalf of Appalachian Power Company, Columbus Southern Power Company, Indiana Michigan Power Company, Kentucky Power Company, Kingsport Power Company, Ohio Power Company, and Wheeling Power Company (collectively, AEP), submitted for filing proposed electric transmission rates to be included in the Open Access Transmission Tariff of PJM. AEPSC requested an effective date of June 1, 2005.

AEPSC states that copies of the filing were served on the Indiana Utility Regulatory Commission, Kentucky Public Service Commission, Michigan Public Service Commission, Public Utilities Commission of Ohio, Public Service Commission of West Virginia, Tennessee Regulatory Authority and Virginia State Corporation Commission. AEPSC also states that a copy of the transmittal letter was served on AEP's transmission customers and that the filings has been posed on its Web site at http://www.aep.com/go/oat.

Comment Date: 5 p.m. eastern time on April 21, 2005.

19. Midwest Independent Transmission, System Operator, Inc., PJM Interconnection, L.L.C.

[Docket No. ER05-752-000]

Take notice that on March 31, 2005, the Midwest Independent Transmission System Operator, Inc. (Midwest ISO) and PJM Interconnection, L.L.C. (PJM) submitted revisions to the Joint Operating Agreement (JOA) between Midwest ISO and PJM. PJM and the Midwest ISO state that the filed sheets revise the Congestion Management Process (CMP) in Attachment 2 to the JOA to: (1) Clarify the term “market area” as used in CMP's market flow determination; (2) change the treatment of capacity benefit margin (CBM) in the CMP's calculation of firm allocation; and (3) amend the freeze date used for purposes of calculating historic firm flow. The Midwest ISO and PJM request that the clarification concerning the “market area” become effective April 1, 2005, and that the changes concerning CBM and the freeze date become effective on August 1, 2005.

The Midwest ISO and PJM state that the filing was served electronically on all PJM members and each state electric utility regulatory commission in the PJM region, and on all Midwest ISO members and other stakeholders.

Comment Date: 5 p.m. eastern time on April 21, 2005.

20. Oklahoma Gas and Electric Company

[Docket No. ER05-753-000]

Take notice that on March 31, 2005, Oklahoma Gas and Electric Company (OG&E) submitted five agreements with Oklahoma Municipal Power Authority and a certificate of concurrence.

OG&E states that copies of the filing were served on Oklahoma Municipal Authority, the Arkansas Public Utility Commission and the Oklahoma Corporation Commission.

Comment Date: 5 p.m. eastern time on April 21, 2005.

21. ISO New England Inc., IRH Management Committee, New England Hydro-Transmission, Electric Company, Inc., New England Hydro-Transmission Corporation, New England Electric Transmission Corporation, Vermont Electric Transmission Company, Bangor Hydro-Electric Company, Central Maine Power Company, NSTAR Electric & Gas Corporation, on behalf of its affiliates Boston Edison Company, Commonwealth Electric Company, Cambridge Electric Light Company, and Canal Electric Company, New England Power Company, Northeast Utilities Service Company, on behalf of its operating company affiliates, The Connecticut Light and Power Company, Western Massachusetts Electric Company, Public Service Company of New Hampshire, and Holyoke Water Power Company, The United Illuminating Company, Vermont Electric Power Company, Central Vermont Public Service Corporation, Green Mountain Power Corporation, Vermont Electric Cooperative

[Docket No. ER05-754-000]

Take notice that on March 31, 2005, ISO New England Inc. (ISO-NE) and the companies listed in the caption (collectively, Filing Parties) tendered for filing a complete package of new contractual and tariff rate schedule arrangements for the United States portion of the 2000 MW (nominal) high-voltage direct-current transmission facilities interconnecting the transmission systems operated by ISO-NE and Hydro-Québec TransÉnergie (the “PhaseI/II HVDC-TF”), including proposed conforming changes to the ISO-NE FERC Electric Transmission, Markets and Services Tariff No. 3.

The Filing Parties state that copies of the filing were sent to the New England state governors and regulatory commissions and all Participants and Indirect Participants.

Comment Date: 5 p.m. eastern time on April 21, 2005.

22. Oklahoma Gas and Electric Company

[Docket No. ER05-755-000]

Take notice that on March 31, 2005, Oklahoma Gas and Electric Company (OG&E) submitted an agreement for scheduling exchange service with Oklahoma Municipal Power Authority.

OG&E states that copies of the filing were served on Oklahoma Municipal Authority, the Arkansas Public Utility Commission and the Oklahoma Corporation Commission.

Comment Date: 5 p.m. eastern time on April 21, 2005.

23. Dayton Power and Light Company

[Docket No. ER05-756-000]

Take notice that on March 31, 2005, Dayton Power and Light Company (DP&L) submitted a Notice of Cancellation of DP&L's FERC Electric Rate Schedule No. 48 with the City of Celina, Ohio. DP&L requested an effective date of May 31, 2005.

DP&L states that the filing was served on the City of Celina, Ohio and the Public Utilities Commission of Ohio.

Comment Date: 5 p.m. eastern time on April 21, 2005.

24. Victoria International LTD

[Docket No. ER05-757-000]

Take notice that on March 31, 2005, Victoria International LTD. (VIL) petitioned the Commission for acceptance of its Rate Schedule FERC No. 1; the granting of certain blanket approvals, including the authority to sell electricity at market-based rates; and the waiver of certain Commission regulations. VIL states that it intends to engage in wholesale electric power and energy purchases and sales as a marketer. VIL further states that it is not in the business of generating or transmitting electric power. VIL states that it is a Washington, DC corporation, which, through its affiliates, engages in wholesale natural gas marketing and energy transactions as a marketer.

Comment Date: 5 p.m. eastern time on April 21, 2005.

25. American Electric Power Service Corporation

[Docket No. ER05-758-000]

Take notice that on March 31, 2005, American Electric Power Service Corporation (AEPSC) tendered for filing an Interconnection and Local Delivery Service Agreement No. 1253 for Hoosier Energy Rural Electric Cooperative, Inc. and a Facilities, Operations, Maintenance and Repair Agreement No. 1254, for the establishment of a new Deliver Point between the City of Columbus, Ohio and AEP. AEPSC request an effective date of March 1, 2005, for Agreement No. 1253 and August 1, 2004, for Agreement No. 1254.

AEPSC states that a copy of the filing was served on the parties and the Indiana and Ohio Public Service Commission.

Comment Date: 5 p.m. eastern time on April 21, 2005.

26. Wisconsin Electric Power Company

[Docket No. ER05-759-000]

Take notice that on March 31, 2005, Wisconsin Electric Power Company (Wisconsin Electric) tendered for filing an amended and restated Dynamic Interconnection Operations Coordination Agreement, designated as FERC Electric Rate Schedule No. 111, between Wisconsin Electric and the Board of Light and Power, City of Marquette. Wisconsin Electric requested an effective date of April 1, 2005.

Comment Date: 5 p.m. eastern time on April 21, 2005.

27. Wisconsin Electric Power Company

[Docket No. ER05-760-000]

Take notice that on March 31, 2005, Wisconsin Electric Power Company (Wisconsin Electric) tendered for filing Amendment No. 2 to the Joint Operating Agreement between Wisconsin Electric and Edison Sault Electric Company. Wisconsin Electric requested an effective date of April 1, 2005.

Comment Date: 5 p.m. eastern time on April 21, 2005.

28. Oklahoma Gas and Electric Company

[Docket No. ER05-761-000]

Take notice that on March 31, 2005, Oklahoma Gas and Electric Company (OG&E) submitted a proposed revision to its Open Access Transmission Tariff (OATT) to add a standard form of service agreement for customers to secure ancillary services under the OG&E OATT or to self-supply such services in conjunction with transmission service taken under the OATT of the Southwest Power Pool.

OG&E states that copies of the filing were served on all customers under OG&E's OATT , the Oklahoma Corporation Commission, the Arkansas Public Service Commission and the Southwest Power Pool.

Comment Date: 5 p.m. eastern time on April 21, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E5-1755 Filed 4-13-05; 8:45 am]

BILLING CODE 6717-01-P